DEPARTMENT OF HEALTH AND HUMAN SERVICES

Centers for Disease Control and Prevention

Disease, Disability, and Injury Prevention and Control Special Emphasis Panels (SEP): Development and Testing of New Medications for the Treatment of Emerging Infectious Diseases, Request for Applications (RFA) Number CI06-006

In accordance with section 10(a)(2) of the Federal Advisory Committee Act (Pub. L. 92-463), the Centers for Disease Control and Prevention (CDC) announces the following meeting:

Name: Disease, Disability, and Injury Prevention and Control Special Emphasis Panel (SEP): Development and Testing of New Medications for the Treatment of Emerging Infectious Diseases, RFA Number CI06-006.

Time and Date: 12 p.m.-4 p.m., April 25, 2006 (Closed).

Place: Teleconference.

Status: The meeting will be closed to the public in accordance with provisions set forth in Section 552b(c)(4) and (6), Title 5 U.S.C., and the Determination of the Director, Management Analysis and Services Office, CDC, pursuant to Public Law 92-463.

Matters to be Discussed: The meeting will include the review, discussion, and evaluation of applications received in response to: Development and Testing of New Medications for the Treatment of Emerging Infectious Diseases, RFA Number CI06-006.

For Further Information Contact: Christine Morrison, PhD, Scientific Review Administrator, Office of Public Health Research, Centers for Disease Control and Prevention, 1600 Clifton Road, NE., Mailstop D-72, Atlanta, GA 30333, Telephone 404-639-3098.

The Director, Management Analysis and Services Office, has been delegated the authority to sign Federal Register notices pertaining to announcements of meetings and other committee management activities, for both CDC and the Agency for Toxic Substances and Disease Registry.

Dated: March 30, 2006.
Alvin Hall,
Director, Management Analysis and Services Office, Centers for Disease Control and Prevention.

[FR Doc. E6-4932 Filed 4-4-06; 8:45 am]

BILLING CODE 4163-18-P